DEPARTMENT OF HEALTH AND HUMAN SERVICES

Centers for Disease Control and Prevention

Notice of Award of a Single-Source Cooperative Agreement To Fund the World Health Organization (WHO)

AGENCY: Centers for Disease Control and Prevention (CDC), Department of Health and Human Services (HHS).

ACTION: Notice.

SUMMARY: The Centers for Disease Control and Prevention (CDC), located within the Department of Health and Human Services (HHS), announces the award of approximately $80,000,000, for Year 1 funding to WHO. The award will support WHO's efforts to support national governments with polio eradication, measles and rubella mortality reduction, and other vaccine preventable disease (VPD) control efforts. Funding amounts for years 2-5 will be set at continuation.

DATES: The period for this award will be July 1, 2023, through June 30, 2028.

FOR FURTHER INFORMATION CONTACT: Karen Clackum, Center for Global Health, Global Immunization Division, Centers for Disease Control and Prevention, 1600 Clifton Rd. NE, Bldg. 21, Atlanta, GA, 30329, Telephone: 770-488-2680, E-Mail: KClackum@cdc.gov.

SUPPLEMENTARY INFORMATION: The single-source award will support WHO in strengthening immunization systems; maintaining and strengthening field and laboratory-based surveillance; ensuring capacities to quickly and effectively detect and respond to VPD outbreaks; foster immunization program sustainability; improve immunization program, policies, guidelines, and practices at country, regional, and global levels; and ensure sustained political, technical, and financial support for the Global Polio Eradication Initiative (GPEI), Measles and Rubella Partnership, and other disease-specific initiatives as well as for the Immunization Agenda 2030.

WHO is in a unique position to conduct this work, as it is the only organization with a worldwide mandate for the control and prevention of vaccine preventable diseases (VPDs). WHO also has the lead responsibility among United Nations (UN) organizations for implementing the World Health Assembly (WHA) resolutions calling for the global eradication of polio, elimination of rubella, and multiple other resolutions with targeted VPD goals. Additionally, no other global partner or agency has the technical expertise and direct access to implementation of immunization activities in such a breadth of countries.

Summary of the Award

Recipient: World Health Organization (WHO).

Purpose of the Award: The purpose of this award is to support WHO's efforts to support national governments with polio eradication, measles and rubella mortality reduction, and other vaccine preventable disease (VPD) control efforts in line with CDC's Global Immunization Strategic Framework (GISF).

Amount of Award: The approximate year 1 funding amount will be $80,000,000 in Federal Fiscal Year (FYY) 2023 funds, subject to the availability of funds. Funding amounts for years 2-5 will be set at continuation.

Authority: This program is authorized under Sections 301 (c), 307, and 317 of the Public Health Service Act (42 U.S.C. 241 (c), 242l, and 247b); and section 104 of the Foreign Assistance Act of 1961 (22 U.S.C. 2151b).

Period of Performance: July 1, 2023 through June 30, 2028.

Dated: November 23, 2022.
Terrance Perry,
Chief Grants Management Officer, Centers for Disease Control and Prevention.

[FR Doc. 2022-26001 Filed 11-28-22; 8:45 am]

BILLING CODE 4163-18-P